DEPARTMENT OF COMMERCE

U.S. Census Bureau

Census Coverage Measurement Housing Unit Followup Operation

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 2, 2007.

ADDRESSES: Direct all comments to Diana Hynek, Departmental Paperwork Clearance Officer, Department of Commerce, Room 6625, 14th and Constitution Avenue, NW., Washington DC 20230 (or via the internet at Dhynek@doc.gov).

FOR FURTHER INFORMATION CONTACT: Requests for additional information or copies of the information collection instrument(s) and instructions should be directed to Magdalena Ramos, U.S. Census Bureau, 4600 Silver Hill Rd., Room 4H265, Washington, DC 20233, 301-763-4295 (or via the Internet at Magdalena.Ramos@census.gov).

SUPPLEMENTARY INFORMATION:

I. Abstract

In preparation for the 2010 Census, the U.S. Census Bureau will conduct a Census Coverage Measurement (CCM) test as part of the 2008 Census Dress Rehearsal. The 2008 Census Dress Rehearsal will be conducted in two sites, one urban, and the other one, a mix of urban and suburban. San Joaquin County, California is the urban site. South Central North Carolina has been selected as the urban/suburban mix test site. This area consists of Fayetteville and nine counties surrounding Fayetteville (Chatham, Cumberland, Harnett, Hoke, Lee, Montgomery, Moore, Richmond, and Scotland). As is typical, the CCM operations and activities will be conducted separate from and independent of the census operations. The CCM program for the dress rehearsal is designed to test that all planned coverage measurement operations are working as expected, that they are integrated internally, and that they are coordinated with the appropriate census operations. This is particularly important because the dress rehearsal is the first time in the 2010 census cycle that CCM operations for housing units will be conducted. The CCM operations planned for the dress rehearsal, to the extent possible, will mirror those that will be conducted for the 2010 Census to provide estimates of Net Coverage Error and Components of Coverage Error (omissions and erroneous enumerations) for housing units and persons in housing units (see Definition of Terms). The purpose of this effort in both the DR and 2010 is to evaluate the coverage of the census. The data collection and matching methodologies for previous coverage measurement programs were designed only to measure net coverage error, which reflects the difference between omissions and erroneous inclusions.

The 2008 CCM test will be comprised of two samples selected to measure census coverage of housing units and the household population: the population sample (P sample) and the enumeration sample (E sample). The P sample is a sample of housing units and persons obtained independently from the census for a sample of block clusters. The E sample is a sample of census housing units and enumerations in the same block cluster as the P sample. The independent roster of housing units is obtained during the CCM Independent Listing, the results of which will be matched to census housing units in the sample block clusters and surrounding blocks. A separate OMB register notice was previously submitted for the Independent Listing operation.

After the CCM Independent Listing and matching operations have taken place, some cases will be identified to receive the CCM Housing Unit Followup (HUFU) interview. Generally, these will be cases where additional information is needed to determine housing unit status (for example, clarify if the addresses refer to a housing unit, identify duplicate addresses) or resolve inconsistencies observed during the matching operations between the CCM and census addresses in the block cluster. Using a paper questionnaire tailored for the type of followup required, interviewers will contact a member (or proxy, as a last resort) of each housing unit needing followup to answer questions that might allow a resolution of housing unit status or clarify discrepancies. We also will conduct a quality control operation of the HUFU called the Housing Unit Followup Quality Control (HUFU QC) of ten percent of the HUFU workload to ensure that the work performed is of acceptable quality. There will be one Housing Unit Followup Form, DX-1303, that will be used for HUFU and HUFU QC.

Definition of Terms

Components of Coverage Error—The two components of census coverage error are census omissions (missed persons or housing units) and erroneous inclusions (persons or housing units enumerated in the census that should not have been). Examples of erroneous inclusions are: housing units built after Census Day and persons or housing units enumerated more than once (duplicates).

Net Coverage Error—Reflects the difference between census omissions and erroneous inclusions. A positive net error indicates an undercount, while a negative net error indicates an overcount.

For more information about the Census 2000 Coverage Measurement Program, please visit the following page of the Census Bureau's website: http://www.census.gov/dmd/www/refroom.html

II. Method of Collection

The housing unit followup operation will be conducted using person-to-person interviews.

III. Data

OMB Number: None.

Form Number: DX-1303.

Type of Review: Regular submission.

Affected Public: Individuals or households.

Estimated Number of Respondents: 16,000 Housing units (HUs) for Housing Unit Followup, and 1,600 HUs for Housing Unit Followup QC.

Estimated Times Per Response: 3 minutes.

Estimated Total Annual Burden Hours: 880.

Estimated Total Annual Cost to the Public: No cost to the respondent except for their time to respond.

Respondent Obligation: Mandatory.

Legal Authority: Title 13, U.S. Code, Sections 141, 193, and 221.

IV. Request for Comments

Comments are invited on: (a) Whether the proposed collection of information is necessary for the proper performance of the functions of the agency, including whether the information shall have practical utility; (b) the accuracy of the agency's estimate of the burden (including hours and cost) of the proposed collection; (c) ways to enhance the quality, utility, and clarity of the information to be collected; and (d) ways to minimize the burden of the collection of information on respondents, including through the use of automated collection techniques or other forms of information technology.

Comments submitted in response to this notice will be summarized and/or included in the request for OMB approval of the information collection; they also will become a matter of public record.

Dated: January 24, 2007.
Gwellnar Banks,
Management Analyst, Office of the Chief Information Officer.

[FR Doc. E7-1422 Filed 1-29-07; 8:45 am]

BILLING CODE 3510-07-P